DEPARTMENT OF EDUCATION

34 CFR Chapter VI

[Docket ID ED-2025-OPE-1042]

RIN 1840-AD82

Intent To Establish Negotiated Rulemaking Committee

AGENCY: Office of Postsecondary Education, Department of Education.

ACTION: Intent To establish Negotiated Rulemaking Committee.

SUMMARY: We announce our intention to establish a negotiated rulemaking committee to prepare proposed regulations amending the regulations for the Secretary's recognition of accrediting agencies and related institutional eligibility regulations for the programs authorized under title IV of the Higher Education Act of 1965, as amended (HEA) (title IV, HEA programs). The committee will include representatives of organizations or groups with interests that are significantly affected by the subject matter of the proposed regulations. We request nominations for individual negotiators who represent key stakeholder constituencies for the issues to be negotiated to serve on the committee, and we set a schedule for committee meetings.

DATES: We must receive nominations for negotiators to serve on the committee on or before February 26, 2026.

The dates, times, and locations for the committee meetings are set out in the Schedule for Nominations in the SUPPLEMENTARY INFORMATION section of this document.

ADDRESSES: Please email your nominations for negotiators to negregnominations@ed.gov. If you are unable to email your nomination, please contact Vanessa Gomez, U.S. Department of Education, Office of Postsecondary Education, 400 Maryland Avenue SW, 5th Floor, Washington, DC 20202. Telephone: (202) 987-0378. Email: negregnominations@ed.gov.

FOR FURTHER INFORMATION CONTACT: For information about negotiated rulemaking, see “The Negotiated Rulemaking Process for Title IV Regulations—Frequently Asked Questions” at https://www.ed.gov/laws-and-policy/higher-education-laws-and-policy/higher-education-policy/frequently-asked-questions-negotiated-rulemaking-process-title-iv-regulations. For information about the content of this document, including additional information about the negotiated rulemaking process, please contact Vanessa Gomez, U.S. Department of Education, Office of Postsecondary Education, 400 Maryland Avenue SW, 5th Floor, Washington, DC 20202. Telephone: (202) 987-0378. Email: NegRegNPRMHelp@ed.gov.

If you are deaf, hard of hearing, or have a speech disability and wish to access telecommunications relay services, please dial 7-1-1.

SUPPLEMENTARY INFORMATION:

Background

Section 492 of the HEA requires that, before publishing any proposed regulations to implement programs authorized under title IV of the HEA, the Secretary must obtain public involvement in the development of the proposed regulations. After obtaining advice and recommendations from the public, the Secretary conducts negotiated rulemaking to develop the proposed regulations. We took the following actions to comply with these requirements.

On April 4, 2025, we published in the Federal Register an announcement regarding our intent to establish one or more negotiated rulemaking committees to prepare proposed regulations on various title IV, HEA programs. 90 FR 14741.

We also announced in that notice two public hearings at which interested parties could comment on the topics for negotiation suggested by the Department and recommend additional topics that should be considered for action by one or more negotiated rulemaking committees. Those hearings were held on April 29 and May 1, 2025.

In all instances, we sought public feedback and suggested topics from interested parties. Specifically, the Department requested comments on ways to streamline and improve federal student financial assistance programs and related regulations, focusing on regulations that have imposed unnecessary costs and burdens on institutions, States, and other partners and other regulations that may be inhibiting innovation and contributing to rising college costs.

You may view the written comments submitted in response to the aforementioned Federal Register document through the Federal eRulemaking Portal at www.regulations.gov. Instructions for finding comments are available on the site under “FAQ.” Enter Docket ID ED-2025-OPE-0016 in the search box to locate the appropriate docket.

After thoroughly reviewing and considering the information received through the public hearings and in the written comments, we announce our intent to establish the Accreditation, Innovation, and Modernization (AIM) Committee (Committee). We intend to prepare draft regulations amending the regulations for the Secretary's recognition of accrediting agencies and related institutional eligibility regulations (34 CFR parts 602 (https://www.ecfr.gov/current/title-34/part-602) and 600 (https://www.ecfr.gov/current/title-34/part-600) and to submit such draft regulations to the negotiated rulemaking process prior to publishing a Notice of Proposed Rulemaking (NPRM) in the Federal Register.

Regulatory Issues

The proposed issues for negotiation in the Committee include but may not be limited to:

1. Simplification and streamlining of the Department's regulations for: recognition and review of accrediting agencies, including superfluous requirements for recognition of new accrediting agencies that reduce competition and institutional choice among those agencies, and procedures for institutions to change accrediting agencies so that institutions are not forced to comply with standards that are antithetical to their values and missions.

2. Revision of criteria and related regulations used by the Secretary to recognize accrediting agencies, including emphasizing criteria and standards requirements that effectively focus on student achievement and outcomes, high educational quality, and high-value programs and removing criteria that are anti-competitive, discriminatory, or which contribute to credential inflation and escalating tuition costs.

3. Amending requirements for accrediting agencies' standards, application of such standards, and oversight of member institutions and programs, including requiring all accrediting agencies and associations to have standards that consider program-level student achievement and outcomes data to improve such outcomes without reference to race, ethnicity, or sex; ensuring that accrediting agency procedures for taking action on noncompliance findings resulting from the Office of Civil Rights investigations under Title VI of the Civil Rights Act of 1964 (42 U.S.C. 2000d et seq.) or Title IX of the Education Amendments Act of 1972 (20 U.S.C. 1681 et seq.) provide for expeditious resolution and actions; and ensuring that any other information provided by the Secretary regarding an institution's record of compliance with its Federal program responsibilities are expeditiously addressed and acted upon.

4. Review of accrediting agencies' concurrent oversight responsibilities in the “regulatory triad” of accrediting agencies, States, and the Department, and determining what accreditation standards and related regulations are needed, or should be eliminated, to ensure that accrediting agency standards do not contravene Federal or State law.

5. Review of the role that accrediting agency standards have played in promoting violations of Federal law, including unlawful discrimination by member institutions under the guise of accreditation standards for diversity, equity, and inclusion and adoption of appropriate regulatory safeguards to ensure that accredited institutions provide high-quality, high-value programs that are free from unlawful discrimination and other violations of Federal law.

6. Determination of whether the current regulations in 34 CFR 602.18 and other regulations should be clarified or expanded to ensure that the use of new learning models and innovative program delivery approaches by accredited institutions is not impeded by accreditation standards or accrediting agency decisions.

7. Expansion of current regulations on accreditation standards for faculty to include support for and appropriate prioritization of intellectual diversity amongst faculty in order to advance academic freedom, intellectual inquiry, and student achievement and learning outcomes.

8. Amending the standards governing when an accrediting agency is deemed separate and independent from any related, associated, or affiliated trade association or membership organizations.

9. Technical changes and corrections to the regulations for recognition and review of accrediting agencies and other related title IV program regulations.

10. Addressing other Administration priorities relating to accreditation.

Selection of Negotiators

We intend to select negotiators for the Committee who represent the interests of those significantly affected by the issues proposed for negotiation. In so doing, we will comply with the requirement in section 492(b)(1) of the HEA (20 U.S.C. 1098a) that the individuals selected must have demonstrated expertise or experience in the relevant topics proposed for negotiations. Our goal is to allow significantly affected parties to be represented while keeping the size of the Committee manageable.

We generally select a primary and alternate negotiator for each constituency represented on the Committee. The primary negotiator participates for the purpose of determining consensus. The alternate participates for the purpose of determining consensus in the absence of the primary negotiator. The Department will provide more detailed information to both primary and alternate negotiators selected to participate on the Committee about the logistics and protocols of the meetings.

Negotiators are expected to represent the interests of their constituency and to participate in the negotiations in a manner consistent with the goal of developing proposed regulations on which the Committee will reach consensus. Consensus means that there is no dissent by any member of the Committee, including the Committee member representing the Department.

Constituency Groups for Negotiator Nominations

We have identified the constituency groups listed below and will choose negotiators from each group from nominations submitted by individuals and various organizations within each of these constituency groups involved in the title IV, HEA programs. Constituency groups which will be represented on the Committee will consist of the following:

• Students, student loan borrowers, or groups representing them.

• Veterans and U.S. military service members, or groups representing them.

• Organizations representing taxpayers and the public interest.

• Organizations representing workforce development needs, professional associations or employers.

• Legal assistance organizations, consumer advocates, and civil rights organizations that represent students or borrowers.

• Institutional accrediting agencies recognized by the Secretary under 34 CFR part 602.

• Programmatic accrediting agencies recognized by the Secretary under 34 CFR part 602.

• Nascent accreditation organizations not currently recognized by the Secretary under 34 CFR part 602, and third-party organizations that measure outcome-based quality assurance standards for postsecondary education that are aligned with established industry standards.

• Public institutions of higher education, including community colleges, Historically Black Colleges and Universities, and Tribally Controlled Colleges and Universities.

• Private nonprofit institutions of higher education, including institutions with a religious mission, Historically Black Colleges and Universities, and Tribally Controlled Colleges and Universities.

• Proprietary institutions of higher education, as defined in 34 CFR 600.5.

• State officials, including Governors, State higher education executive officers, State authorizing agencies and State attorneys general.

NACIQI

The Department intends to appoint a primary and alternative negotiator to reflect the National Advisory Committee on Institutional Quality and Integrity's (NACIQI) related expertise and perspectives in the negotiated rulemaking process. We intend both negotiators to come from its existing membership who have expert subject matter expertise on accreditation and quality assurance in postsecondary education.

Advisor

The Department also invites nominations for an advisor. The advisor will not be a member of the Committee and will not impact the consensus vote; however, we will consult with the advisor, who will serve as a resource to the Committee. We seek an advisor who has expert subject matter expertise on accreditation and quality assurance in postsecondary education. The advisor will be expected to be available throughout the duration of the Committee meetings. The advisor may also offer recommendations to the Committee on regulatory language.

Nominations Process

We request that nominations include the information described in this section.

• The name of the nominee;

• The name of the constituency (or constituencies) for which the nominee is being nominated (see Constituency Groups for Negotiator Nominations);

• The nominee's place of employment or institution at which they are or were enrolled and, if different, the organization the nominee represents;

• A resume or evidence of the nominee's expertise and experience in the topics proposed for negotiations; and

• The nominee's contact information, including email address, telephone number, and mailing address.

Please see the ADDRESSES section for submission information. We will confirm receipt of nominations to the submitter. The Department will provide additional information to those we select to serve as negotiators. Once complete, a list of negotiators will be posted here: https://www.ed.gov/laws-and-policy/higher-education-laws-and-policy/higher-education-policy/negotiated-rulemaking-for-higher-education-2025-2026. The Department will also provide information about how any Committee vacancies can be filled at the beginning of the first Committee meeting.

Schedule for Negotiations

The Committee will meet in-person at the Department in Washington, DC for two sessions on the following dates:

Session 1: April 13-17, 2026; and

Session 2: May 18-22, 2026.

Session times will be from 9:00 a.m. to 12:00 p.m. and 1:00 p.m. to 4:00 p.m.

The meetings will be conducted in person and be available for the public to watch via livestream on the internet. Registration is requested to observe the meetings in-person or via livestream. Space may be limited. We will post a registration link on our website at https://www.ed.gov/laws-and-policy/higher-education-laws-and-policy/higher-education-policy/negotiated-rulemaking-for-higher-education-2025-2026 no later than one week prior to the start of the meetings. Please note that any in-person visitors to the Department must present a Driver's License (DL) or Identification (ID) that is compliant with the REAL ID Act; a current military ID; or a valid passport. Those persons not in possession of a DL/ID that is REAL ID compliant, a current military ID or a valid passport, will not be allowed to gain entrance into the Department.

The Department will also post recordings and transcripts of the meetings on the site listed above. American Sign Language translation will be provided to all who attend the negotiations and closed captioning will be provided for the livestream and recordings.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to this Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site. You may also access the documents of the Department published in the Federal Register by using the article search feature at www.federalregister.gov. Specifically, through the advanced search feature at this site, you can limit your search to documents published by the Department.

Program Authority: 20 U.S.C. 1098a.

David Barker,
Assistant Secretary for Postsecondary Education.

[FR Doc. 2026-01620 Filed 1-26-26; 8:45 am]

BILLING CODE 4000-01-P